GENERAL SERVICES ADMINISTRATION

[Notice-MEG-2024-01; Docket No.2024-0002; Sequence No.15]

Notice of Intent To Establish a Federal Advisory Committee and Call for Nominations

AGENCY: Office of Government-wide Policy, General Services Administration (GSA).

ACTION: Notice.

SUMMARY: The General Services Administration (GSA) announces its intent to establish the Open Government Federal Advisory Committee (hereinafter “the Committee” or “the OG FAC”) and is requesting member nominations.

DATES: GSA will consider nominations that are submitted via email or postmarked by May 28, 2024.

ADDRESSES: Please submit nominations to Arthur Brunson, Designated Federal Officer (DFO), General Services Administration, Office of Government-wide Policy, 1800 F Street, NW Washington, DC 20405; or send by email having a subject line of “OG FAC Nomination” to ogfac@gsa.gov.

FOR FURTHER INFORMATION CONTACT: Arthur Brunson, DFO, Office of Government-wide Policy, 202-501-1126, or email having a subject line of “OG FAC Nomination”: ogfac@gsa.gov

SUPPLEMENTARY INFORMATION: The Administrator of the U.S. General Services Administration (GSA) intends to establish the Open Government Federal Advisory Committee (OG FAC) as a discretionary advisory committee under agency authority in accordance with the provisions of the Federal Advisory Committee Act (FACA), as amended, 5 U.S.C. 10.

GSA's Open Government Secretariat supports ensuring a more transparent, responsive and inclusive Federal Government. This is done by providing channels for members of the public to regularly engage with their government. The OG FAC will advise GSA in its endeavor to increase the public's access to data, to better advance equity, engage the public in the regulatory process, make government records more accessible, and improve the delivery of government services and benefits through expert advice.

The OG FAC will serve as an advisory body to GSA on GSA Open Government initiatives including GSA's creation, implementation and monitoring of U.S. Open Government National Action Plans (NAPs)and commitment themes. The initial focus for the OG FAC will be to provide advice to GSA on the development of NAP 6, Open Government Policy, and Public Engagement. The OG FAC will advise GSA's Administrator on emerging open government issues, challenges and opportunities to support GSA's Open Government Secretariat.

The OG FAC is essential to conduct agency business for GSA and bring together civil society, Federal agencies, academia, industry, and other interested stakeholders. GSA needs a wide diversity of views on Open Government initiatives.

It is anticipated that the OG FAC will be comprised of no less than ten (10) and no more than twenty (20) Federal and non-Federal members, with a strong background and expertise in open government themes such as Access to Information, Anti-Corruption, Civic Space, Climate and Environment, Digital Governance, Fiscal Openness, Gender and Inclusion, Justice, Media Freedom, Public Participation, and improving the delivery of government services and benefits. The GSA Administrator will appoint all members. Members serve one (1) to three (3) year terms. No member will serve for more than six (6) consistent years. Membership balance is not static given the broad nature of the work, and the expertise or experience relevant to the function of this Committee may change over time, depending on the work of the Committee. GSA values opportunities to increase diversity, equity, inclusion and accessibility on its federal advisory committees.

Committee

The OG FAC will operate in accordance with the provisions of the Federal Advisory Committee Act (FACA), as amended, (5 U.S.C. 10). The OG FAC will be solely advisory in nature. Consistent with FACA and its requirements, each meeting of the OG FAC will be open to the public unless otherwise notified in accordance with the Government in the Sunshine Act. A notice of each meeting will be published in the Federal Register at least fifteen (15) days in advance of the meeting. Records will be maintained for each meeting and made available for public inspection. All activities of the OG FAC will be conducted in an open, transparent, and accessible manner.

The OG FAC is expected to be a continuing entity with charter renewals every two years. The first meeting date and agenda topics will be announced in the Federal Register at least fifteen (15) days prior to the first meeting date. In addition, as needed, working groups or subcommittees will be established to facilitate the OG FAC's work. Special accommodations for meetings will be made available to individuals with disabilities upon request.

Members will be designated as Regular Government Employees (RGEs), Special Government Employees (SGEs), or Representative members as appropriate. GSA's Office of General Counsel will assist the DFO to determine the advisory committee member designations. In general, SGEs are experts in their field who provide Federal advisory committees with their own best independent judgment based on their individual expertise. Representatives are members selected to represent a specific point of view held by a particular group, organization, or association. Members who are full-time or permanent part-time Federal civilian officers or employees shall be appointed to serve as Regular Government Employee (RGE) members.

In accordance with OMB Final Guidance published in the Federal Register on October 5, 2011 and revised on August 13, 2014, federally registered lobbyists may not serve on the Committee in an individual capacity to provide their own individual best judgment and expertise, such as SGEs and RGEs members. This ban does not apply to lobbyists appointed to provide the Committee with the views of a particular group, organization, or association, such as a representative member.

Member Nominations

GSA invites nominations to serve on the Committee in the disciplines related to Open Government policy and initiatives such as, but not limited to: Access to Information, Anti-Corruption, Civic Space, Climate and Environment, Digital Governance, Fiscal Openness, Gender and Inclusion, Justice, Media Freedom, Public Participation, and improving the delivery of government services and benefits. In the selection of members for the Committee, GSA will consider a cross-section of those directly affected, interested, and qualified, as appropriate to the nature and functions of the Committee.

Membership will depend upon several factors, including: (i) The Committee's mission; (ii) The geographic, ethnic, social, economic, or scientific impact of the Committee's recommendations; (iii) The types of specific perspectives required, for example, such as those of consumers, technical experts, the public at-large, academia, business, or other sectors; (iv) The need to obtain divergent points of view on the issues before the Committee; and (v) The relevance of State, local, territorial, or Tribal governments to the development of the Committee's recommendations.

Member Selection Criteria

The following factors will be used to evaluate nominees:

Committee Members

a. Subject matter expertise in the key issue the OG FAC is examining for the current period;

b. Professional experiences and accomplishments (e.g., projects, nature of work, or publications);

c. Current employment and membership in associations or other activities (e.g., industry, academia, and civil society organizations); and

d. Willingness to commit time to the Committee and demonstrated ability to work constructively and effectively on committees;

Committee Chair and Any Co-chairs or Vice-Chairs

• Demonstrated credentials and interdisciplinary expertise in the open government themes such as Access to Information, Anti-Corruption, Civic Space, Climate and Environment, Digital Governance, Fiscal Openness, Gender and Inclusion, Justice, Media Freedom, Public Participation, and improving the delivery of government services and benefits.

• Willingness to commit substantial time to the Committee and demonstrated ability to work constructively and effectively on committees;

• Background and experience helping engage people from different backgrounds work towards common objectives;

• Demonstrated ability to assess and analyze policy challenges with objectivity and integrity;

• Excellent interpersonal, oral, and written communication skills; and

• Excellent leadership and consensus-building skills.

All members will be appointed by the GSA Administrator, who will also select the Chair and any Co-Chairs or Vice-Chairs from among the members.

Miscellaneous

The OG FAC will meet at least four times per year. Such meetings will be open to the public unless an appropriate authority determines, in accordance with FACA, as amended, that a meeting shall be closed or partially closed. The Committee will meet virtually or in person as agreed to by the Committee Chair and DFO.

Committee members (including the Committee Chair and any Co-Chairs or Vice-Chairs) will not be compensated for their services and may be allowed travel expenses, including per diem, in accordance with 5 U.S.C. 5703. Regardless of the type of committee membership appointment, any travel expenses shall be paid at rates equivalent to that allowable to Federal employees.

The GSA Open Government Secretariat will host a virtual Question and Answer (Q&A) session on May 10, 2024 at 1:00pm ET. The purpose of the Q&A session is to answer questions on the selection process and timeline. The Q&A session will be recorded and will be posted to the GSA YouTube Channel, on the Open Government Secretariat Playlist. To attend this virtual session please complete and submit a registration form at https://gsa.zoomgov.com/meeting/register/vJItduyurz0jEvnY1VG4FD-PswDaufetOsc or submit your contact information via email having a subject line of “OG FAC Q&A Session Attendance” to: ogfac@gsa.gov.

Nomination Submissions

Any interested person and/or organization may nominate qualified individuals for membership. Individuals are also encouraged to self-nominate. The following items must be submitted in a nomination package:

(1) A letter of nomination stating the nominee's name and organizational affiliation(s), nominee's field of expertise, specific qualifications to serve on the Committee, and a brief statement of interest, including if the nominee is interested in serving as the Chair of the Committee;

(2) A professional resume or curriculum vitae (CV); and

(3) A short biography (no more than two paragraphs) describing the nominee's professional and educational qualifications, including a list of relevant activities and any current or previous/current service on advisory committees.

The letter of nomination, resume or CV, and a short biography should include the candidate's full name, address of the current organization, position title, email address, and daytime telephone number(s) of the nominee and nominator.

In preparing the letter of nomination, please describe how the nominee's background, knowledge, and experience will bring value to the work of the Committee and how these qualifications would contribute to the overall diversity of the Committee. Also, describe any previous involvement with GSA through employment, grant funding, and/or contracting sources, if applicable.

Nominations are due by May 28, 2024 and must be submitted to Arthur Brunson, Designated Federal Officer (DFO), General Services Administration, Office of Government-wide Policy, 1800 F Street, NW Washington, DC 207405 having a postmarked date of no later than the due date or via email having a subject line of “OG FAC Nomination” to: ogfac@gsa.gov.

Krystal J. Brumfield,
Associate Administrator, Office of Government-wide Policy, General Services Administration.

[FR Doc. 2024-08970 Filed 4-25-24; 8:45 am]

BILLING CODE 6820-UA-P